DEPARTMENT OF ENERGY

Federal Energy Regulatory Commission

Combined Notice of Filings #1

Take notice that the Commission received the following electric rate filings:

Docket Numbers: ER10-2331-014; ER10-2343-014; ER10-2319-013; ER10-2320-013; ER10-2317-012; ER10-2322-014; ER10-2324-013 ER10-2325-012; ER10-2332-013; ER10-2326-014; ER10-2327-015; ER10-2328-013; ER11-4609-012; ER10-2330-014.

Applicants: J.P. Morgan Ventures Energy Corporation, J.P. Morgan Commodities Canada Corporation, BE Alabama LLC, BE Allegheny LLC, BE CA LLC, BE Ironwood LLC, BE KJ LLC, BE Louisiana LLC, BE Rayle LLC, Cedar Brakes I, L.L.C., Cedar Brakes II, L.L.C., Central Power & Lime LLC, Utility Contract Funding, L.L.C., Triton Power Michigan LLC.

Description: JPMorgan Sellers Notice of Non-Material Change in Status re: Centennial Wind.

Filed Date: 1/9/13.

Accession Number: 20130109-5187.

Comments Due: 5 p.m. ET 1/30/13.

Docket Numbers: ER10-2794-011; ER10-2849-010; ER11-2028-011; ER12-1825-009; ER11-3642-009.

Applicants: EDF Trading North America, LLC, EDF Industrial Power Services (NY), LLC, EDF Industrial Power Services (IL), LLC, EDF Industrial Power Services (CA), LLC, Tanner Street Generation, LLC.

Description: Notice of Non-Material Change in Status of EDF Trading North America, LLC, et al.

Filed Date: 1/9/13.

Accession Number: 20130109-5133.

Comments Due: 5 p.m. ET 1/30/13.

Docket Numbers: ER10-2984-007.

Applicants: Merrill Lynch Commodities, Inc.

Description: Notice of Non-Material Change in Status of Merrill Lynch Commodities, Inc.

Filed Date: 1/9/13.

Accession Number: 20130109-5126.

Comments Due: 5 p.m. ET 1/30/13.

Docket Numbers: ER10-2985-009; ER10-3049-010; ER10-3051-010.

Applicants: Champion Energy Marketing LLC, Champion Energy Services, LLC, Champion Energy, LLC.

Description: Updated Market Power Analysis for the Southwest Region of Champion Energy Marketing LLC, et al.

Filed Date: 1/9/13.

Accession Number: 20130109-5169.

Comments Due: 5 p.m. ET 3/11/13.

Docket Numbers: ER13-112-001.

Applicants: Midwest Independent Transmission System Operator, Inc.

Description: 2013-01-09 SA 2488 C009 Compliance to be effective 10/13/2012.

Filed Date: 1/9/13.

Accession Number: 20130109-5092.

Comments Due: 5 p.m. ET 1/30/13.

Docket Numbers: ER13-464-001.

Applicants: Arizona Public Service Company.

Description: Compliance Filing to APS Service Agreement No. 324, Amendment 1 to be effective 11/30/2012.

Filed Date: 1/9/13.

Accession Number: 20130109-5109.

Comments Due: 5 p.m. ET 1/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 10, 2013.
Nathaniel J. Davis, Sr.,
Deputy Secretary.

[FR Doc. 2013-00980 Filed 1-17-13; 8:45 am]

BILLING CODE 6717-01-P